DEPARTMENT OF COMMERCE

National Oceanic and Atmospheric Administration

[RTID 0648-XA930]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day meeting via webinar of its Standing, Reef Fish, and Socioeconomic Scientific and Statistical Committees (SSC).

DATES: The meeting will be held on Tuesday, March 30 to Friday, April 2, 2021, 9 a.m.-5 p.m., EDT.

ADDRESSES: The meeting will take place via webinar; you may register by visiting www.gulfcouncil.org and clicking on the SSC meeting on the calendar.

Council address: Gulf of Mexico Fishery Management Council, 4107 W Spruce Street, Suite 200, Tampa, FL 33607; telephone: (813) 348-1630.

FOR FURTHER INFORMATION CONTACT: Ryan Rindone, Lead Fishery Biologist, Gulf of Mexico Fishery Management Council; ryan.rindone@gulfcouncil.org, telephone: (813) 348-1630.

SUPPLEMENTARY INFORMATION:

Tuesday, March 30, 2021-Thursday, April 1, 2021; 9 a.m.-12 p.m., EST

Meeting will begin with Introductions and Adoption of Agenda. The Committees will review the Great Red Snapper Count (GRSC) Project, including: The Review Terms of Reference; summary presentations about the GRSC including but not limited to study design and sampling approaches; statistics and data analysis; and results. The SSC will be provided with the independent consultant's initial findings. The first portion of the meeting will end with consultant and SSC deliberations on the GRSC Project.

Thursday, April 1, 2021-Friday, April 2, 2021; 1 p.m.-12 p.m., EST

The Committees will then begin the SSC meeting portion of the webinar with the Approval of Verbatim Minutes and Meeting Summary: January 5-7, 2021 webinar meeting; Scope of Work; Selection of SSC Representative for the April 12-15, 2021 Gulf Council Meeting via webinar.

Friday, April 2, 2021; 1 p.m.-5 p.m., EST

The Committees will then review the GRSC-informed Catch Analysis from the Southeast Fisheries Science Center (SEFSC); and then the Red Snapper Interim Analysis including but not limited to the National Marine Fisheries Service Bottom Longline fishery-independent index. The SSC will determine BSIA and make new overfishing limit (OFL) and acceptable biological catch (ABC) recommendations for Gulf of Mexico red snapper, as appropriate.

Lastly, the Committees will receive public comment; and discuss any Other Business items.

Meeting Adjourns

The meeting will be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take-action to address the emergency.

Authority: 16 U.S.C. 1801 et seq.

Dated: March 10, 2021.
Tracey L. Thompson,
Acting Deputy Director, Office of Sustainable Fisheries, National Marine Fisheries Service.

[FR Doc. 2021-05303 Filed 3-12-21; 8:45 am]

BILLING CODE 3510-22-P